DEPARTMENT OF TRANSPORTATION

Federal Aviation Administration

14 CFR Part 39

[Docket No. FAA-2014-0062; Directorate Identifier 2012-NM-031-AD]

RIN 2120-AA64

Airworthiness Directives; Fokker Services B.V. Model F.28 Airplanes

AGENCY: Federal Aviation Administration (FAA), DOT.

ACTION: Notice of proposed rulemaking (NPRM).

SUMMARY: We propose to supersede Airworthiness Directive (AD) 2000-17-03 that applies to all Fokker Services B.V. Model F.28 Mark 0100 airplanes. AD 2000-17-03 currently requires a one-time visual inspection and repetitive eddy current and dye penetrant inspections of the nose landing gear (NLG) main fitting to detect cracking of the NLG main fitting subassembly, and corrective actions if necessary. Since we issued AD 2000-17-03, we were advised that replacement of certain nose landing gear (NLG) units eliminates the need for repetitive inspections. This proposed AD would retain existing requirements, require installation a new part number NLG unit that would terminate the repetitive inspections, and add airplanes to the applicability. We are proposing this AD to prevent cracking of the NLG main fitting, which could lead to collapse of the NLG during takeoff and landing, and possible injury to the flight crew and passengers.

DATES: We must receive comments on this proposed AD by April 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0062; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2014-0062; Directorate Identifier 2012-NM-031-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 17, 2000, we issued AD 2000-17-03, Amendment 39-11876 (65 FR 52298, August 29, 2000). AD 2000-17-03 requires actions intended to address an unsafe condition on Fokker Services B.V. Model F.28 Mark 0100 airplanes.

Since we issued AD 2000-17-03, Amendment 39-11876 (65 FR 52298, August 29, 2000), we received a report of a NLG main fitting failure. The European Aviation Safety Agency (EASA), which is the Technical Agent for the Member States of the European Community, has issued EASA Airworthiness Directive 2012-0002R1, dated March 30, 2012 (referred to after this as the Mandatory Continuing Airworthiness Information, or “the MCAI”), to correct an unsafe condition for the specified products. The MCAI states:

In 1997, a report was received concerning a Fokker 100 (F28 Mark 0100) aeroplane, where during landing following nose wheel touch-down, the nose landing gear (NLG) broke off just below the pintle pins. Subsequent inspection by the affected operator of other aeroplanes in the fleet identified three more suspect NLG main fittings. Eddy current (EC) and/or dye penetrant inspections of these units later confirmed that cracks were present on the inner side of the downlock plunger support web. The total number of flight cycles (FC) accumulated by the cracked NLG main fittings at the time of detection were between 9,300 FC and 17,600 FC.

This condition, if not detected and corrected, could result in further incidents of NLG collapse, possibly resulting in damage to the aeroplane and/or injury to the occupants. To address this potential unsafe condition, (Civil Aviation Authority —Netherlands] CAA-NL issued AD (BLA) 1997-116 (currently at issue 2) to require repetitive inspections of the NLG main fitting and, depending on findings, rework or replacement of the NLG main fitting.

Since AD (BLA) 1997-116/2 was issued, it was determined that replacement of a Messier-Dowty (M-D, formerly Dowty Rotol) Part Number (P/N) 201071001 or P/N 201071002 NLG with, respectively, a P/N 201071003 or P/N 201071004 (which have a so-called `heavy weight' main fitting installed) or, respectively, with a P/N 201456001 or P/N 201461001 (which are so-called `heavy weight' NLG units) cancels the need for repetitive inspection and/or rework. The `heavy weight' main fitting was originally developed for an increased weight version (101,000 lbs. maximum take-off weight) of the Fokker 100, as well as for the Fokker 70 (F28 Mark 0070), and introduced on the production line.

M-D issued Service Bulletin (SB) F100-32-94 and Fokker Services issued SBF100-32-119, which provide instructions to install the P/N 201071003 or P/N 201071004 NLG on aeroplanes in service. In addition, Fokker Services issued optional SBF100-32-149 to introduce the P/N 201456001 or P/N 201461001 NLG units on aeroplanes in service.

In January 2010, a second NLG main fitting failure occurred. The results of the investigation showed that the fracture started from small fatigue cracks in the affected area. Prompted by this new occurrence, combined with the NLG certification methodology (safe life principle), EASA has decided that the existing terminating action, installation of a P/N 201071003 or P/N 201071004 NLG should be made mandatory. Alternatively, a P/N 201456001 or P/N 201461001 NLG can be installed, which meets the same requirement.

For the reasons described above, EASA issued AD 2012-0002, retaining the requirements of CAA-NL AD (BLA) 1997-116/2, which was superseded, and to require the replacement of all P/N 201071001 and P/N 201071002 NLG units with, respectively, P/N 201071003 and P/N 201071004 NLG units, or alternatively with, respectively, P/N 201456001 or P/N 201461001 NLG units.

Replacement of a NLG main fitting or of a NLG unit on an aeroplane constitutes terminating action for the repetitive inspections for that aeroplane.

EASA AD 2012-0002 also prohibits, after modification of an aeroplane, installation of a P/N 201071001 or P/N 201071002 NLG unit on that aeroplane.

* * * * *

This proposed AD expands the applicability to include all Fokker Services B.V. Model F.28 Mark 0100 airplanes. You may examine the MCAI in the AD docket on the Internet at http://www.regulations.gov by searching for and locating it in Docket No. FAA-2014-0062.

Relevant Service Information

Fokker Services B.V. has issued the following service bulletins:

• Fokker Services B.V. Service Bulletin SBF 100-32-119, Revision 1, dated November 15, 2011, which refers to Messier-Dowty Service Bulletin F100-32-92, Revision 1, dated October 8, 1999, as an additional source of service information for accomplishing the inspections and rework of the NLG main fitting subassembly.

• Fokker Services B.V. Service Bulletin Change Notification SBF 100-32-119/1, dated January 31, 2000.

• Fokker Services B.V. Proforma Service Bulletin SBF 100-32-149, Revision 1, dated October 25, 2007, including Appendix 1, dated December 12, 2006.

• Fokker Services B.V. Service Bulletin SBF 100-53-074, dated November 1, 1999.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, certain requirements of this proposed AD specify that the repair approval specifically refer to the FAA AD. This change is intended to clarify the method of compliance and to provide operators with better visibility of repairs that are specifically developed and approved to correct the unsafe condition. In addition, we use the phrase “its delegated agent, or the DAH with State of Design Authority design organization approval, as applicable” in this proposed AD to refer to a DAH authorized to approve certain required repairs for this proposed AD.

Explanation of Changes Made to the Existing AD

On July 10, 2002, the FAA issued a new version of 14 CFR part 39 (67 FR 47997, July 22, 2002), which governs the FAA's airworthiness directives system. The regulation now includes material that relates to altered products, special flight permits, and alternative methods of compliance (AMOCs). Because we have now included this material in 14 CFR part 39, only the office authorized to approve AMOCs is identified in each individual AD. Therefore, Notes 1 and 5 of AD 2000-17-03, Amendment 39-11876 (65 FR 52298, August 29, 2000), are not included in this NPRM. We have also revised Note 2 of AD 2000-17-03 to lettered paragraph (h) in this NPRM (this change does not affect the intent of that Note) and removed Note 3 of that AD because that information does not apply to the new actions specified in this NPRM.

Costs of Compliance

We estimate that this proposed AD affects 4 airplanes of U.S. registry.

The actions that are required by AD 2000-17-03, Amendment 39-11876 (65 FR 52298, August 29, 2000), and retained in this proposed AD take about 2 work-hours per product, at an average labor rate of $85 per work-hour. Required parts cost about $0 per product. Based on these figures, the estimated cost of the actions that were required by AD 2000-17-03 is $170 per product.

We also estimate that it would take about 8 work-hours per product to comply with the new basic requirements of this proposed AD. The average labor rate is $85 per work-hour. Required parts would cost about $525,000 per product. Where the service information lists required parts costs that are covered under warranty, we have assumed there will be no charge for these parts. As we do not control warranty coverage for affected parties, some parties may incur costs higher than estimated here. Based on these figures, we estimate the cost of this proposed AD on U.S. operators to be $2,102,720, or $526,680 per product.

We have received no definitive data that would enable us to provide a cost estimate for the on-condition actions specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing airworthiness directive (AD) 2000-17-03, Amendment 39-11876 (65 FR 52298, August 29, 2000), and adding the following new AD:

Fokker Services B.V.: Docket No. FAA-2014-0062; Directorate Identifier 2012-NM-031-AD.

(a) Comments Due Date

We must receive comments by April 14, 2014.

(b) Affected ADs

This AD supersedes AD 2000-17-03, Amendment 39-11876 (65 FR 52298, August 29, 2000).

(c) Applicability

This AD applies to Fokker Services B.V. Model F.28 Mark 0100 airplanes; certificated in any category; all serial numbers.

(d) Subject

Air Transport Association (ATA) of America Code 32, Landing Gear.

(e) Reason

This AD was prompted by reports of nose landing gear (NLG) main fitting failures. We are issuing this AD to prevent cracking of the NLG main fitting, which could lead to collapse of the NLG during takeoff and landing, and possible injury to the flight crew and passengers.

(f) Compliance

Comply with this AD within the compliance times specified, unless already done.

(g) Retained One-Time Visual Inspection

This paragraph restates the actions required by paragraph (a) of AD 2000-17-03, Amendment 39-11876 (65 FR 52298, August 29, 2000). For airplanes equipped with Messier-Dowty nose landing gear (NLG) having part number (P/N) 201071001 or 201071002, on which a main fitting subassembly (MFSA) having P/N 201071200, 201071228, 201071248, or 201071249 is installed: Prior to the accumulation of 7,500 total flight cycles or within 50 flight cycles after October 3, 2000 (the effective date of AD 2000-17-03), whichever occurs later, perform a one-time detailed visual inspection of the NLG main fitting subassembly to detect cracking, in accordance with Part 1 of the Accomplishment Instructions of Fokker Service Bulletin SBF100-32-118, dated October 8, 1999.

(1) If no cracking is detected, no further action is required by this paragraph.

(2) If any cracking is detected, prior to further flight, accomplish the actions required by paragraph (i) of this AD.

(h) Definition of a Detailed Visual Inspection

For the purposes of this AD, a detailed visual inspection is defined as: An intensive visual examination of a specific structural area, system, installation, or assembly to detect damage, failure, or irregularity. Available lighting is normally supplemented with a direct source of good lighting at intensity deemed appropriate by the inspector. Inspection aids such as mirrors, magnifying lenses, etc., may be used. Surface cleaning and elaborate access procedures may be required.

(i) Retained Repetitive Eddy Current and/or Dye Penetrant Inspections

This paragraph restates the actions required by paragraph (b) of AD 2000-17-03, Amendment 39-11876 (65 FR 52298, August 29, 2000), with a new exception. For airplanes equipped with Messier-Dowty nose landing gear (NLG) having part number (P/N) 201071001 or 201071002, on which a main fitting subassembly (MFSA) having P/N 201071200, 201071228, 201071248, or 201071249 is installed: Except as required by paragraph (g)(2) of this AD, prior to the accumulation of 7,875 total flight cycles, or within 375 flight cycles after October 3, 2000 (the effective date of AD 2000-17-03), whichever occurs later, perform an eddy current or dye penetrant inspection of the NLG main fitting subassembly to detect cracking, in accordance with Part 2 of the Accomplishment Instructions of Fokker Service Bulletin SBF100-32-118, dated October 8, 1999 (which is incorporated by reference in AD 2000-17-03). Such inspection within the compliance time required by paragraph (g) of this AD terminates the requirements of paragraph (g) of this AD. Repeat the inspection thereafter, using an eddy current or dye penetrant technique, at intervals not to exceed 750 flight cycles, except as required by paragraph (m)(1) of this AD. Repeat the inspection until the replacement specified in paragraph (l) of this AD is done, or the installation specified in paragraph (n) of this AD is done.

(j) Retained Rework of Main Fitting

This paragraph restates the actions required by paragraph (c) of AD 2000-17-03, Amendment 39-11876 (65 FR 52298, August 29, 2000), with revised repair methods. If any cracking is detected during any inspection required by paragraph (g) or (i) of this AD: Prior to further flight, rework the main fitting of the NLG, in accordance with Part 3 of the Accomplishment Instructions of Fokker Service Bulletin SBF100-32-118, dated October 8, 1999 (which is incorporated by reference in AD 2000-17-03). If, after rework, any cracking remains that exceeds the limits specified in Fokker Service Bulletin SBF100-32-118, dated October 8, 1999, prior to further flight, accomplish the actions specified by either paragraph (j)(1) or (j)(2) of this AD.

(1) Replace the NLG in accordance with the Accomplishment Instructions of Fokker Service Bulletin SBF100-32-118, dated October 8, 1999 (which is incorporated by reference in AD 2000-17-03); and within 7,875 flight cycles after such replacement, perform the inspection as specified in paragraph (i) of this AD, and repeat the inspection thereafter at intervals not to exceed 750 flight cycles.

(2) Repair in accordance with a method approved by the Manager, International Branch, ANM-116, Transport Airplane Directorate, FAA; or the Rijksluchtvaartdienst (RLD) (or its delegated agent); or the European Aviation Safety Agency (or its delegated agent, or the Design Approval Holder with EASA's design organization approval, as applicable). For a repair method to be approved by the Manager, International Branch, ANM-116, as required by this paragraph, the Manager's approval letter must specifically reference AD 2000-17-03, Amendment 39-11876 (65 FR 52298, August 29, 2000). For a repair method to be approved as of the effective date of this AD, the repair approval must specifically refer to this AD.

Note 1 to paragraph (j) of this AD: Fokker Service Bulletin SBF100-32-118, dated October 8, 1999 (which is incorporated by reference in AD 2000-17-03), references Messier-Dowty Service Bulletin F100-32-92, Revision 1, dated October 8, 1999, as an additional source of service information for accomplishing the inspections and rework of the NLG main fitting subassembly.

(k) Retained Reporting Requirements

This paragraph restates the actions required by paragraph (d) of AD 2000-17-03, Amendment 39-11876 (65 FR 52298, August 29, 2000), with revised contact information and minor editorial changes. Submit a report of the detailed visual inspection findings (positive and negative) required by paragraph (g) of this AD, and a report of the initial eddy current or dye penetrant inspection findings (positive and negative) required by paragraph (i) of this AD, to Fokker Services B.V., P.O. Box 231, 2150 AE Nieuw-Vennep, the Netherlands; or to Fokker Services B.V., Technical Services Dept., P.O. Box 1357, 2130 EL Hoofddorp, the Netherlands; telephone +31 (0)88-6280-350; fax +31 (0)88-6280-111; email technicalservices@fokker.com; Internet http://www.myfokkerfleet.com; at the applicable time specified in paragraph (k)(1) or (k)(2) of this AD. As of the effective date of this AD, submit reports to Fokker Services B.V., Technical Services Dept., P.O. Box 1357, 2130 EL Hoofddorp, the Netherlands; telephone +31 (0)88-6280-350; fax +31 (0)88-6280-111; email technicalservices@fokker.com; Internet http://www.myfokkerfleet.com.

(1) For airplanes on which the detailed visual inspection specified by paragraph (g) of this AD, and the initial repetitive eddy current or dye penetrant inspection specified by paragraph (i) of this AD, are accomplished after October 3, 2000 (the effective date of AD 2000-17-03, Amendment 39-11876 (65 FR 52298, August 29, 2000)): Submit each report within 7 days after performing the applicable inspection.

(2) For airplanes on which the detailed visual inspection specified by paragraph (g) of this AD, and the initial repetitive eddy current or dye penetrant inspection specified in paragraph (i) of this AD, have been accomplished prior to October 3, 2000 (the effective date of AD 2000-17-03, Amendment 39-11876 (65 FR 52298, August 29, 2000)): Submit the reports within 7 days after October 3, 2000 (the effective date of AD 2000-17-03).

(l) New Requirement of This AD: Replacement

Except as provided by paragraph (m) of this AD, before the next scheduled main fitting overhaul of the nose landing gear (NLG) after the effective date of this AD, or within 36 months after the effective date of this AD, whichever occurs first: Replace all nose landing gear (NLG) units having part number (P/N) 201071001 with a new P/N 201071003 NLG unit, and replace all NLG units having P/N 201071002 with a new P/N 201071004 NLG unit, in accordance with the Accomplishment Instructions of Fokker Services Bulletin SBF100-32-119, Revision 1, dated November 15, 2011.

(m) New Compliance Time Extension and On-Condition Actions

For airplanes on which the next scheduled main fitting overhaul of the NLG is to occur later than 36 months after the effective date of this AD: Operators may accomplish the replacement required by paragraph (l) of this AD before the next scheduled main fitting overhaul of the nose landing gear (NLG) after the effective date of this AD, or within 72 months after the effective date of this AD, whichever occurs first, provided the actions specified in paragraphs (m)(1) and (m)(2) of this AD are done.

(1) Within 36 months after the effective date of this AD, accomplish the inspection specified in paragraph (i) of this AD within 750 flight cycles since the most recent inspection and repeat thereafter at intervals not to exceed 375 flight cycles until the replacement specified in paragraph (l) of this AD is done or the installation specified in paragraph (n) of this AD is done.

(2) In addition to the inspection specified in paragraph (m)(1) of this AD, do all other on-condition actions specified in paragraph 1.E(1)(b) of Fokker Services Bulletin SBF100-32-119, Revision 1, dated November 15, 2011, except where Fokker Services Bulletin SBF100-32-119, Revision 1, dated November 15, 2011, specifies to contact Fokker Services, before further flight, contact either the Manager, International Branch, ANM-116, Transport Airplane Directorate, FAA; or EASA (or its delegated agent, or the Design Approval Holder with EASA's design organization approval, as applicable) for instructions and follow those instructions. For a repair method to be approved, the repair approval must specifically refer to this AD.

Note 1 to paragraph (l) of this AD: Fokker Service Bulletin SBF100-32-119, Revision 1, dated November 15, 2011, references Messier-Dowty Service Bulletin F100-32-94, dated January 5, 2000, as an additional source of service information for replacing the NLG unit.

(n) New Optional Action

Installing a new P/N 201456001 or P/N 201461001 NLG unit, in accordance with the Fokker Service Bulletin SBF100-32-149, Revision 1, dated October 25, 2007, including Appendix 1, dated December 12, 2006, is acceptable for compliance with the replacement required by paragraph (l) of this AD, provided the installation is accomplished within the compliance time specified in paragraph (l) of this AD; and, except for airplanes that comply with paragraph (m) of this AD, provided the installation is accomplished within the compliance time specified in paragraph (m) of this AD.

(o) New Requirement: Concurrent Modification

Prior to, or concurrently with, the installation of the NLG unit required by paragraph (l) of this AD or the optional installation specified in paragraph (n) of this AD, modify the nose landing gear (NLG) bracket, in accordance with the Accomplishment Instructions of Fokker Services Bulletin SBF100-53-074, Revision 1, dated October 25, 2007.

(p) New Terminating Actions

Accomplishing the replacement specified in paragraph (l) of this AD or the installation specified in paragraph (n) of this AD terminates the repetitive eddy current or dye penetrant inspections required by paragraphs (i) and (m)(1) of this AD.

(q) New Parts Installation Prohibition

(1) For airplanes equipped with Messier-Dowty nose landing gear (NLG) having part number (P/N) 201071001 or 201071002, on which a main fitting subassembly (MFSA) having P/N 201071200, 201071228, 201071248, or 201071249 is installed: As of October 3, 2000 (the effective date of AD 2000-17-03, Amendment 39-11876 (65 FR 52298, August 29, 2000), and until the effective date of this AD: No person may install an NLG having P/N 201071001 or 201071002 unless the installed MFSA has been inspected, by means of an eddy current or dye penetrant inspection, and corrected in accordance with paragraph (i) of this AD.

(2) For all airplanes: As of the effective date of this AD, no person may install an NLG having P/N 201071001 or 201071002 on any airplane.

(r) Credit for Previous Actions

This paragraph provides credit for the replacement required by paragraph (l) of this AD, if those actions were performed before the effective date of this AD using Fokker Services B.V. Service Bulletin SBF 100-32-119, dated January 31, 2000, provided part number 201071003 or 201071004 nose gear has been installed.

(s) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval). You are required to ensure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(t) Related Information

(1) Refer to MCAI EASA Airworthiness Directive 2012-0002R1, dated March 30, 2012, for related information. This MCAI may be found in the AD docket on the Internet at http://www.regulations.gov by searching for and locating Docket No. FAA-2014-0062.

(2) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

Issued in Renton, Washington, on February 14, 2014.
Jeffrey E. Duven,
Manager, Transport Airplane Directorate, Aircraft Certification Service.

[FR Doc. 2014-04499 Filed 2-27-14; 8:45 am]

BILLING CODE 4910-13-P